DEPARTMENT OF DEFENSE

GENERAL SERVICES ADMINISTRATION

NATIONAL AERONAUTICS AND SPACE ADMINISTRATION

48 CFR Parts 1, 2, 3, 4, 5, 6, 7, 8, 9, 10, 11, 12, 13, 14, 15, 16, 17, 18, 19, 22, 23, 24, 25, 26, 27, 28, 29, 30, 31, 32, 33, 34, 35, 36, 37, 38, 39, 41, 42, 43, 44, 45, 46, 47, 48, 49, 50, 51, 52, and 53

[FAC 2023-01; FAR Case 2022-005; Item I; Docket No. FAR-2022-0005, Sequence No. 1]

RIN 9000-AO42

Federal Acquisition Regulation: Update to Title 10 Citations

AGENCY: Department of Defense (DoD), General Services Administration (GSA), and National Aeronautics and Space Administration (NASA).

ACTION: Final rule.

SUMMARY: DoD, GSA, and NASA are issuing a final rule amending the Federal Acquisition Regulation (FAR) to update statutory references to Title 10 of the United States Code.

DATES: Effective: December 30, 2022.

FOR FURTHER INFORMATION CONTACT: Ms. Carrie Moore, Procurement Analyst, at 571-300-5917 or by email at carrie.moore@gsa.gov, for clarification of content. For information pertaining to status or publication schedules, contact the Regulatory Secretariat Division at 202-501-4755 or GSARegSec@gsa.gov. Please cite FAC 2023-01, FAR Case 2022-005.

SUPPLEMENTARY INFORMATION:

I. Background

DoD, GSA, and NASA are amending the FAR to update numerous statutory references to Title 10 of the United States Code, which were revised by Title XVIII of the William M. (Mac) Thornberry National Defense Authorization Act (NDAA) for Fiscal Year (FY) 2021 (Pub. L. 116-283), Transfer and Reorganization of Defense Acquisition Statutes, and Title XVII of the NDAA for FY 2022 (Pub. L. 117-81), Technical Amendments Related to the Transfer and Reorganization of Defense Acquisition Statutes.

II. Publication of This Final Rule for Public Comment Is Not Required by Statute

The statute that applies to the publication of the FAR is 41 U.S.C. 1707. Subsection (a)(1) of 41 U.S.C. 1707 requires that a procurement policy, regulation, procedure, or form (including an amendment or modification thereof) must be published for public comment if it relates to the expenditure of appropriated funds and has either a significant effect beyond the internal operating procedures of the agency issuing the policy, regulation, procedure, or form, or has a significant cost or administrative impact on contractors or offerors. This final rule is not required to be published for public comment, because this rule only updates statutory references in the existing regulations, makes no substantive changes to those regulations, and has no significant cost or administrative impact on contractors or offerors.

III. Applicability to Contracts at or Below the Simplified Acquisition Threshold (SAT) and for Commercial Products (Including Commercially Available Off-the-Shelf (COTS) Items) or for Commercial Services

This rule does not create any new solicitation provisions or contract clauses. It does not change the applicability of any existing provisions or clauses included in solicitations or contracts valued at or below the simplified acquisition threshold or for commercial items, including commercially available off-the-shelf items.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993.

V. Congressional Review Act

As required by the Congressional Review Act (5 U.S.C. 801-808), before an interim or final rule takes effect, DoD, GSA, and NASA will send the rule and the “Submission of Federal Rules Under the Congressional Review Act” form to each House of the Congress and to the Comptroller General of the United States. A major rule cannot take effect until 60 days after it is published in the Federal Register. The Office of Information and Regulatory Affairs (OIRA) in the Office of Management and Budget has determined that this is not a major rule under 5 U.S.C. 804.

VI. Regulatory Flexibility Act

Because a notice of proposed rulemaking and an opportunity for public comment are not required to be given for this rule under 41 U.S.C. 1707(a)(1) (see section II. of this preamble), the analytical requirements of the Regulatory Flexibility Act (5 U.S.C. 601-612) are not applicable. Accordingly, no regulatory flexibility analysis is required, and none has been prepared.

VII. Paperwork Reduction Act

The Paperwork Reduction Act (44 U.S.C chapter 3501-3521) does apply; however, the changes to these FAR clauses do not impose additional information collection requirements to the paperwork burden previously approved under OMB Control Numbers: 9000-0034, Examination of Records by Comptroller General and Contract Audit: FAR Section(s) Affected: 52.212-5(d), 52.214-26, 52.215-2; 9000-0135, Prospective Subcontractor Requests for Bonds; and 9000-0138, Contract Financing—FAR sections affected: 52.232-28; 52.232-29; 52.232-30; 52.232-31; and 52.232-32.

List of Subjects in 48 CFR Parts 1, 2, 3, 4, 5, 6, 7, 8, 9, 10, 11, 12, 13, 14, 15, 16, 17, 18, 19, 22, 23, 24, 25, 26, 27, 28, 29, 30, 31, 32, 33, 34, 35, 36, 37, 38, 39, 41, 42, 43, 44, 45, 46, 47, 48, 49, 50, 51, 52, and 53

Government procurement.

William F. Clark,
Director, Office of Government-wide Acquisition Policy, Office of Acquisition Policy, Office of Government-wide Policy.

Therefore, DoD, GSA, and NASA amend 48 CFR parts 1, 2, 3, 4, 5, 6, 7, 8, 9, 10, 11, 12, 13, 14, 15, 16, 17, 18, 19, 22, 23, 24, 25, 26, 27, 28, 29, 30, 31, 32, 33, 34, 35, 36, 37, 38, 39, 41, 42, 43, 44, 45, 46, 47, 48, 49, 50, 51, 52, and 53 as set forth below:

PART 1—FEDERAL ACQUISITION REGULATIONS SYSTEM

1. The authority citation for part 1 is revised to read as follows:

Authority: 40 U.S.C. 121(c); 10 U.S.C. chapter 4 and 10 U.S.C. chapter 137 legacy provisions (see 10 U.S.C. 3016); and 51 U.S.C. 20113.

PART 2—DEFINITIONS OF WORDS AND TERMS

2. The authority citation for part 2 is revised to read as follows:

Authority: 40 U.S.C. 121(c); 10 U.S.C. chapter 4 and 10 U.S.C. chapter 137 legacy provisions (see 10 U.S.C. 3016); and 51 U.S.C. 20113.

2.101 [Amended]

3. Amend section 2.101, in paragraph (b)(2) by—

a. In the definition of “Certified cost or pricing data” removing “10 U.S.C. 2306a” and adding “10 U.S.C. chapter 271” in its place;

b. In the definition of “Cost or pricing data”, introductory text, removing “10 U.S.C. 2306a(h)(1)” and adding “10 U.S.C. 3701(1)” in its place;

c. In the definition of “Humanitarian or peacekeeping operation” removing “10 U.S.C. 2302(8)” and adding “10 U.S.C. 3015(2)” in its place;

d. In the definition of “Major system”, in paragraph (3), removing “(10 U.S.C. 2302 and 41 U.S.C. 109” and adding “(10 U.S.C. 3041 and 41 U.S.C. 109)” in its place;

e. In the definition of “Qualifying offeror” removing “10 U.S.C. 2305(a)(3)(D)” and adding “10 U.S.C. 3206(c)(4)” in its place;

f. In the definition of “Simplified acquisition threshold”, in paragraph (2), removing “10 U.S.C. 2302” and adding “10 U.S.C. 3015” in its place; and

g. In the definition “Small Business Teaming Arrangement”, in paragraph (2)(ii), removing “10 U.S.C. 2302 note” and adding “10 U.S.C. 4901 note prec.” in its place.

PART 3—IMPROPER BUSINESS PRACTICES AND PERSONAL CONFLICTS OF INTEREST

4. The authority citation for part 3 is revised to read as follows:

Authority: 40 U.S.C. 121(c); 10 U.S.C. chapter 4 and 10 U.S.C. chapter 137 legacy provisions (see 10 U.S.C. 3016); and 51 U.S.C. 20113.

3.104-1 [Amended]

5. Amend 3.104-1 in the definition “Contractor bid or proposal information”, in paragraph (1), by removing “10 U.S.C. 2306a(h)(1)” and adding “10 U.S.C. 3701(1)” in its place.

3.104-2 [Amended]

6. Amend section 3.104-2 by removing from paragraph (b)(1) “10 U.S.C. 2207” and adding “10 U.S.C. 4651” in its place.

3.201 [Amended]

7. Amend section 3.201 by removing “(10 U.S.C. 2207)” and adding “(10 U.S.C. 4651)” in its place.

3.303 [Amended]

8. Amend section 3.303 by removing from paragraph (a) “10 U.S.C. 2305(b)(9)” and adding “10 U.S.C. 3307” in its place.

3.400 [Amended]

9. Amend section 3.400 by removing “10 U.S.C. 2306(b)” and adding “10 U.S.C. 3321(b)(1)” in its place.

3.402 [Amended]

10. Amend section 3.402 by removing from the introductory text “10 U.S.C. 2306(b)” and adding “10 U.S.C. 3321(b)” in its place.

3.503-1 [Amended]

11. Amend section 3.503-1 by removing “10 U.S.C. 2402” and adding “10 U.S.C. 4655” in its place.

3.900 [Amended]

12. Amend section 3.900 by removing from the introductory text “10 U.S.C. 2409” and adding “10 U.S.C. 4701” in its place.

PART 4—ADMINISTRATIVE AND INFORMATION MATTERS

13. The authority citation for part 4 is revised to read as follows:

Authority: 40 U.S.C. 121(c); 10 U.S.C. chapter 4 and 10 U.S.C. chapter 137 legacy provisions (see 10 U.S.C. 3016); and 51 U.S.C. 20113.

4.702 [Amended]

14. Amend section 4.702 by removing from paragraph (b) “Chapter 137, Title 10, U.S.C.,” and adding “10 U.S.C. chapter 137 legacy provisions (10 U.S.C. 3064) and 10 U.S.C. 3016 and chapter 203” in its place.

4.1102 [Amended]

15. Amend section 4.1102 by removing from paragraph (a)(3)(i) “10 U.S.C. 2302(8)” and adding “10 U.S.C. 3015(2)” in its place.

PART 5—PUBLICIZING CONTRACT ACTIONS

16. The authority citation for part 5 is revised to read as follows:

Authority: 40 U.S.C. 121(c); 10 U.S.C. chapter 4 and 10 U.S.C. chapter 137 legacy provisions (see 10 U.S.C. 3016); and 51 U.S.C. 20113.

PART 6—COMPETITION REQUIREMENTS

17. The authority citation for part 6 is revised to read as follows:

Authority: 40 U.S.C. 121(c); 10 U.S.C. chapter 4 and 10 U.S.C. chapter 137 legacy provisions (see 10 U.S.C. 3016); and 51 U.S.C. 20113.

6.101 [Amended]

18. Amend section 6.101 by removing from paragraphs (a) and (b) “10 U.S.C. 2304” and adding “10 U.S.C. 3201” in their places; respectively.

6.301 [Amended]

19. Amend section 6.301 by removing from paragraph (a) “10 U.S.C. 2304(c)” and adding “10 U.S.C. 3204” in their places (twice).

6.302-1 [Amended]

20. Amend section 6.302-1 by—

a. Removing from paragraph (a)(1) “10 U.S.C. 2304(c)(1)” and adding “10 U.S.C. 3204(a)(1)” in its place;

b. Removing from paragraph (a)(2)(i)(C) “10 U.S.C. 2304(d)(1)(A)” and adding “10 U.S.C. 3204(b)(A)” in its place; and

c. Removing from paragraphs (a)(2)(ii)(B) and (a)(2)(iii)(B) “10 U.S.C. 2304(d)(1)(B)” and adding “10 U.S.C. 3204(b)(B)” in their places; respectively.

6.302-2 [Amended]

21. Amend section 6.302-2 by removing from paragraph (a)(1) “10 U.S.C. 2304(c)(2)” and adding “10 U.S.C. 3204(a)(2)” in its place.

6.302-3 [Amended]

22. Amend section 6.302-3 by removing from paragraph (a)(1) “10 U.S.C. 2304(c)(3)” and adding “10 U.S.C. 3204(a)(3)” in its place.

6.302-4 [Amended]

23. Amend section 6.302-4 by removing from paragraph (a)(1) “10 U.S.C. 2304(c)(4)” and adding “10 U.S.C. 3204(a)(4)” in its place.

6.302-5 [Amended]

24. Amend section 6.302-5 by—

a. Removing from paragraph (a)(1) “10 U.S.C. 2304(c)(5)” and adding “10 U.S.C. 3204(a)(5)” in its place; and

b. Removing from paragraphs (c)(1)(ii) and (iii) “10 U.S.C. 2304(k)” and adding “10 U.S.C. 3201(e)” in their places; respectively.

6.302-6 [Amended]

25. Amend section 6.302-6 by removing from paragraph (a)(1) “10 U.S.C. 2304(c)(6)” and adding “10 U.S.C. 3204(a)(6)” in its place.

6.302-7 [Amended]

26. Amend section 6.302-7 by removing from paragraph (a)(1) “10 U.S.C. 2304(c)(7)” and adding “10 U.S.C. 3204(a)(7)” in its place.

6.305 [Amended]

27. Amend section 6.305 by removing from paragraph (a) “10 U.S.C. 2304(l)” and adding “10 U.S.C. 3204(f)” in its place.

PART 7—ACQUISITION PLANNING

28. The authority citation for part 7 is revised to read as follows:

Authority: 40 U.S.C. 121(c); 10 U.S.C. chapter 4 and 10 U.S.C. chapter 137 legacy provisions (see 10 U.S.C. 3016); and 51 U.S.C. 20113.

7.102 [Amended]

29. Amend section 7.102 by—

a. Removing from paragraph (a)(1) “10 U.S.C. 2377” and adding “10 U.S.C. 3453” in its place; and

b. Removing from paragraph (a)(2) “10 U.S.C. 2305(a)(1)(A)” and adding “10 U.S.C. 3206(a)(1)” in its place.

7.103 [Amended]

30. Amend section 7.103 by—

a. Removing from paragraph (a) “10 U.S.C. 2305(a)(1)(A)” and adding “10 U.S.C. 3206(a)(1)” in its place;

b. Removing from paragraph (b) “10 U.S.C. 2377” and adding “10 U.S.C. 3453” in its place; and

c. Removing from paragraph (c) “10 U.S.C. 2305(a)(1)(A)” and adding “10 U.S.C. 3206(a)(1)”.

7.202 [Amended]

31. Amend section 7.202 by removing from paragraph (a) introductory text “10 U.S.C. 2384a” and adding “10 U.S.C. 3242” in its place.

PART 8—REQUIRED SOURCES OF SUPPLIES AND SERVICES

32. The authority citation for part 8 is revised to read as follows:

Authority: 40 U.S.C. 121(c); 10 U.S.C. chapter 4 and 10 U.S.C. chapter 137 legacy provisions (see 10 U.S.C. 3016); and 51 U.S.C. 20113.

8.602 [Amended]

33. Amend section 8.602 by removing from paragraph (a) introductory text “10 U.S.C. 2410n” and adding “10 U.S.C. 3905” in its place.

PART 9—CONTRACTOR QUALIFICATIONS

34. The authority citation for part 9 is revised to read as follows:

Authority: 40 U.S.C. 121(c); 10 U.S.C. chapter 4 and 10 U.S.C. chapter 137 legacy provisions (see 10 U.S.C. 3016); and 51 U.S.C. 20113.

9.200 [Amended]

35. Amend section 9.200 by removing “10 U.S.C. 2319” and adding “10 U.S.C. 3243” in its place.

PART 10—MARKET RESEARCH

36. The authority citation for part 10 is revised to read as follows:

Authority: 40 U.S.C. 121(c); 10 U.S.C. chapter 4 and 10 U.S.C. chapter 137 legacy provisions (see 10 U.S.C. 3016); and 51 U.S.C. 20113.

10.000 [Amended]

37. Amend section 10.000 by removing “10 U.S.C. 2377” and adding “10 U.S.C. 3453” in its place.

10.001 [Amended]

38. Amend section 10.001 by removing from paragraph (a)(2)(v) “10 U.S.C. 2377(c)” and adding “10 U.S.C. 3453(c)” in its place.

PART 11—DESCRIBING AGENCY NEEDS

39. The authority citation for part 11 is revised to read as follows:

Authority: 40 U.S.C. 121(c); 10 U.S.C. chapter 4 and 10 U.S.C. chapter 137 legacy provisions (see 10 U.S.C. 3016); and 51 U.S.C. 20113.

11.002 [Amended]

40. Amend section 11.002 by removing from paragraph (a) introductory text “10 U.S.C. 2305(a)(1)” and “10 U.S.C. 2377” and adding “10 U.S.C. 3206(a)” and “10 U.S.C. 3453” in their places; respectively.

PART 12—ACQUISITION OF COMMERCIAL PRODUCTS AND COMMERCIAL SERVICES

41. The authority citation for part 12 is revised to read as follows:

Authority: 40 U.S.C. 121(c); 10 U.S.C. chapter 4 and 10 U.S.C. chapter 137 legacy provisions (see 10 U.S.C. 3016); and 51 U.S.C. 20113.

12.000 [Amended]

42. Amend section 12.000 by removing “10 U.S.C. 2375-2377” and adding “10 U.S.C. 3451-3453” in its place.

43. Amend section 12.503 by—

a. Removing from paragraph (a)(5) “10 U.S.C. 2306(b)” and adding “10 U.S.C. 3321(b)” in its place;

b. Removing from paragraph (a)(6) “10 U.S.C. 2313(c)(1)” and adding “10 U.S.C. 3841(d)(1)” in its place;

c. Removing from paragraph (a)(9) “10 U.S.C. 2302 note” and adding “10 U.S.C. 4601 note prec.” in its place;

d. Removing from paragraph (c)(1) “10 U.S.C. 2402” and adding “10 U.S.C. 4655” in its place; and

e. Revising paragraph (c)(2) to read as follows.

12.503 Applicability of certain laws to Executive agency contracts for the acquisition of commercial products and commercial services.

* * * * *

(c) * * *

(2) 41 U.S.C. chapter 35 and 10 U.S.C. chapter 271, Truthful Cost or Pricing Data (see 15.403).

* * * * *

44. Amend section 12.504 by—

a. Removing from paragraph (a)(6) “10 U.S.C. 2306(b)” and adding “10 U.S.C. 3321(b)” in its place;

b. Removing from paragraph (a)(7) “10 U.S.C. 2313(c)” and adding “10 U.S.C. 3841(d)” in its place;

c. Removing from paragraph (a)(13) “10 U.S.C. 2302 note” and adding “10 U.S.C. 4601 note prec.” in its place;

d. Removing from paragraph (c)(1) “10 U.S.C. 2402” and adding “10 U.S.C. 4655” in its place; and

e. Revising paragraph (c)(2) to read as follows.

12.504 Applicability of certain laws to subcontracts for the acquisition of commercial products and commercial services.

* * * * *

(c) * * *

(2) 41 U.S.C. chapter 35 and 10 U.S.C. chapter 271, Truthful Cost or Pricing Data (see subpart 15.4).

* * * * *

PART 13—SIMPLIFIED ACQUISITION PROCEDURES

45. The authority citation for part 13 is revised to read as follows:

Authority: 40 U.S.C. 121(c); 10 U.S.C. chapter 4 and 10 U.S.C. chapter 137 legacy provisions (see 10 U.S.C. 3016); and 51 U.S.C. 20113.

13.005 [Amended]

46. Amend section 13.005 by—

a. Removing from paragraph (a)(2) “10 U.S.C. 2306(b)” and adding “10 U.S.C. 3321(b)” in its place;

b. Removing from paragraph (a)(3) “10 U.S.C. 2313” and adding “10 U.S.C. 3841” in its place; and

c. Removing from paragraph (a)(4) “10 U.S.C. 2402” and adding “10 U.S.C. 4655” in its place.

13.106-1 [Amended]

47. Amend section 13.106-1 by removing from paragraph (a)(2)(iv) introductory text “10 U.S.C. 2305(a)(3)” and adding “10 U.S.C. 3206(c)” in its place.

13.500 [Amended]

48. Amend section 13.500 by removing from paragraph (a) “10 U.S.C. 2304(g) and 2305” and adding “10 U.S.C. 3205-3208 and chapter 241” in its place.

PART 14—SEALED BIDDING

49. The authority citation for part 14 is revised to read as follows:

Authority: 40 U.S.C. 121(c); 10 U.S.C. chapter 4 and 10 U.S.C. chapter 137 legacy provisions (see 10 U.S.C. 3016); and 51 U.S.C. 20113.

PART 15—CONTRACTING BY NEGOTIATION

50. The authority citation for part 15 is revised to read as follows:

Authority: 40 U.S.C. 121(c); 10 U.S.C. chapter 4 and 10 U.S.C. chapter 137 legacy provisions (see 10 U.S.C. 3016); and 51 U.S.C. 20113.

15.209 [Amended]

51. Amend section 15.209 by removing from paragraph (b)(1) introductory text “10 U.S.C. 2313” and adding “10 U.S.C. 3841” in its place.

15.303 [Amended]

52. Amend section 15.303 by removing from paragraphs (b)(4) and (6) “10 U.S.C. 2305(b)(4)(C)” and adding “10 U.S.C. 3303(c)” in their places; respectively.

15.304 [Amended]

53. Amend section 15.304 by—

a. Removing from paragraph (c)(1)(i) “10 U.S.C. 2305(a)(3)(A)(ii)” and adding “10 U.S.C. 3206(c)(1)(B)” in its place;

b. Removing from paragraph (c)(1)(ii) introductory text “10 U.S.C. 2305(a)(3)” and adding “10 U.S.C. 3206(c)” in its place;

c. Removing from paragraph (c)(2) “(10 U.S.C. 2305(a)(3)(A)(i) and 3306(c)(1)(A)” and adding “(10 U.S.C. 3206(c)(1)(A) and 41 U.S.C. 3306(c)(1)(A))” in its place;

d. Removing from paragraph (d) “(10 U.S.C. 2305(a)(2)(A)(i) and 41 U.S.C. 3306(b)(1)(A)” and adding “(10 U.S.C. 3206(b)(1) and 41 U.S.C. 3306(b)(1)” in its place; and

e. Removing from paragraph (e)(3) “10 U.S.C. 2305(a)(3)(A)(iii)” and adding “(10 U.S.C. 3206(c)(1)(C)” in its place.

15.306 [Amended]

54. Amend section 15.306 by—

a. Removing from paragraph (a)(3) “10 U.S.C. 2305(b)(4)(A)(ii)” and adding “10 U.S.C. 3303(a)(2)” in its place; and

b. Removing from paragraph (c)(2) “10 U.S.C. 2305(b)(4)” and adding “10 U.S.C. 3303” in its place.

15.401 [Amended]

55. Amend 15.401 in the definition “Subcontract” by removing “10 U.S.C. 2306a(h)(2)” and adding “10 U.S.C. 3701(2)” in its place.

15.403-1 [Amended]

56. Amend section 15.403-1 by removing from the section heading and paragraph (c)(3)(ii)(A) “10 U.S.C. 2306a” and adding “10 U.S.C. chapter 271” in their places; respectively.

15.403-3 [Amended]

57. Amend section 15.403-3 by—

a. Removing from paragraph (a)(1)(ii) “10 U.S.C. 2306a(d)(1)” and adding “10 U.S.C. 3705(a)” in its place; and

b. Removing from paragraph (c)(2) introductory text “10 U.S.C. 2306a(d)(2)” and adding “10 U.S.C. 3705(b)” in its place.

15.403-4 [Amended]

58. Amend section 15.403-4 by removing from the section heading “10 U.S.C. 2306a” and adding “10 U.S.C. chapter 271” in its place.

15.404-1 [Amended]

59. Amend section 15.404-1 by removing from paragraph (f)(2) “10 U.S.C. 2306a(b)(1)(A)(i)” and adding “10 U.S.C. 3703(a)(1)(A)” in its place.

15.404-2 [Amended]

60. Amend section 15.404-2 by removing from paragraph (c)(2) “10 U.S.C. 2313” and adding “10 U.S.C. 3841” in its place.

15.404-4 [Amended]

61. Amend section 15.404-4 by removing from paragraph (c)(4)(i) introductory text “10 U.S.C. 2306(d) and 41 U.S.C. 3905)” and adding “10 U.S.C. 3322(b) and 41 U.S.C. 3905” in its place.

15.503 [Amended]

62. Amend section 15.503 by removing from paragraph (b)(1) introductory text “10 U.S.C. 2305(b)(5)” and adding “10 U.S.C. 3304” in its place.

15.505 [Amended]

63. Amend section 15.505 by removing from the introductory text “10 U.S.C. 2305(b)(6)(A)” and adding “10 U.S.C. 3305” in its place.

PART 16—TYPES OF CONTRACTS

64. The authority citation for part 16 is revised to read as follows:

Authority: 40 U.S.C. 121(c); 10 U.S.C. chapter 4 and 10 U.S.C. chapter 137 legacy provisions (see 10 U.S.C. 3016); and 51 U.S.C. 20113.

16.102 [Amended]

65. Amend section 16.102 by—

a. Removing from paragraph (b) “10 U.S.C. 2306(a)” and adding “10 U.S.C. 3321(a)” in its place; and

b. Removing from paragraph (c) “10 U.S.C. 2306(a)” and adding “10 U.S.C. 3322(a)” in its place.

16.501-2 [Amended]

66. Amend section 16.501-2 by removing from paragraph (a) “10 U.S.C. 2304d” and adding “10 U.S.C. 3401” in its place.

16.505 [Amended]

67. Amend section 16.505 by—

a. Removing from paragraph (a)(10)(i)(B)(2) “10 U.S.C. 2304c(e)” and adding “10 U.S.C. 3406(f)” in its place; and

b. Removing from paragraph (b)(2)(i)(G) “10 U.S.C. 2304c(b)(5)” and “10 U.S.C. 2304(c)(7)” and adding “10 U.S.C. 3406(c)(5)” and “10 U.S.C. 3204(a)(7)” in their places; respectively.

PART 17—SPECIAL CONTRACTING METHODS

68. The authority citation for part 17 is revised to read as follows:

Authority: 40 U.S.C. 121(c); 10 U.S.C. chapter 4 and 10 U.S.C. chapter 137 legacy provisions (see 10 U.S.C. 3016); and 51 U.S.C. 20113.

17.101 [Amended]

69. Amend section 17.101 by removing “10 U.S.C. 2306b” and adding “10 U.S.C. 3501” in its place.

17.700 [Amended]

70. Amend section 17.700 by removing from paragraph (b) “10 U.S.C. 2304 Note” and adding “10 U.S.C. 3201 note prec.” in its place.

PART 18—EMERGENCY ACQUISITIONS

71. The authority citation for part 18 is revised to read as follows:

Authority: 40 U.S.C. 121(c); 10 U.S.C. chapter 4 and 10 U.S.C. chapter 137 legacy provisions (see 10 U.S.C. 3016); and 51 U.S.C. 20113.

PART 19—SMALL BUSINESS PROGRAMS

72. The authority citation for part 19 is revised to read as follows:

Authority: 40 U.S.C. 121(c); 10 U.S.C. chapter 4 and 10 U.S.C. chapter 137 legacy provisions (see 10 U.S.C. 3016); and 51 U.S.C. 20113.

19.000 [Amended]

73. Amend section 19.000 by removing from paragraph (a) introductory text “(10 U.S.C. 2302, et seq.)” and adding “(10 U.S.C. 3063-3064 and 3203)” in its place.

19.201 [Amended]

74. Amend section 19.201 by removing from paragraph (c)(14)(ii) “10 U.S.C. 2318” and adding “10 U.S.C. 3249” in its place.

19.811-1 [Amended]

75. Amend section 19.811-1 by removing from paragraph (b)(1) “10 U.S.C. 2304(c)(5)” and adding “10 U.S.C. 3204(a)(5)” in its place.

PART 22—APPLICATION OF LABOR LAWS TO GOVERNMENT ACQUISITIONS

76. The authority citation for part 22 is revised to read as follows:

Authority: 40 U.S.C. 121(c); 10 U.S.C. chapter 4 and 10 U.S.C. chapter 137 legacy provisions (see 10 U.S.C. 3016); and 51 U.S.C. 20113.

PART 23—ENVIRONMENT, ENERGY AND WATER EFFICIENCY, RENEWABLE ENERGY TECHNO0LOGIES, OCCUPATIONAL SAFETY, AND DRUG-FREE WORKPLACE

77. The authority citation for part 23 is revised to read as follows:

Authority: 40 U.S.C. 121(c); 10 U.S.C. chapter 4 and 10 U.S.C. chapter 137 legacy provisions (see 10 U.S.C. 3016); and 51 U.S.C. 20113.

PART 24—PROTECTION OF PRIVACY AND FREEDOM OF INFORMATION

78. The authority citation for part 24 is revised to read as follows:

Authority: 40 U.S.C. 121(c); 10 U.S.C. chapter 4 and 10 U.S.C. chapter 137 legacy provisions (see 10 U.S.C. 3016); and 51 U.S.C. 20113.

24.202 [Amended]

79. Amend section 24.202 by—

a. Removing from paragraph (a) “10 U.S.C. 2305(g)” and adding “10 U.S.C. 3309” in its place; and

b. Removing from paragraph (b) “10 U.S.C. 2306a(d)(2)(C)” and adding “10 U.S.C. 3705(c)(3)” in its place.

PART 25—FOREIGN ACQUISITION

80. The authority citation for part 25 is revised to read as follows:

Authority: 40 U.S.C. 121(c); 10 U.S.C. chapter 4 and 10 U.S.C. chapter 137 legacy provisions (see 10 U.S.C. 3016); and 51 U.S.C. 20113.

25.302-1 [Amended]

81. Amend section 25.302-1 by removing from the text “10 U.S.C. 2302 Note” and adding “10 U.S.C. Subtitle A, Part V, Subpart G Note” in its place.

25.1001 [Amended]

82. Amend section 25.1001 by removing from paragraph (a) introductory text “10 U.S.C. 2313” and adding “10 U.S.C. 3841” in its place.

PART 26—OTHER SOCIOECONOMIC PROGRAMS

83. The authority citation for part 26 is revised to read as follows:

Authority: 40 U.S.C. 121(c); 10 U.S.C. chapter 4 and 10 U.S.C. chapter 137 legacy provisions (see 10 U.S.C. 3016); and 51 U.S.C. 20113.

PART 27—PATENTS, DATA, AND COPYRIGHTS

84. The authority citation for part 27 is revised to read as follows:

Authority: 40 U.S.C. 121(c); 10 U.S.C. chapter 4 and 10 U.S.C. chapter 137 legacy provisions (see 10 U.S.C. 3016); and 51 U.S.C. 20113.

PART 28—BONDS AND INSURANCE

85. The authority citation for part 28 is revised to read as follows:

Authority: 40 U.S.C. 121(c); 10 U.S.C. chapter 4 and 10 U.S.C. chapter 137 legacy provisions (see 10 U.S.C. 3016); and 51 U.S.C. 20113.

28.106-4 [Amended]

86. Amend section 28.106-4 by removing from paragraph (b) “10 U.S.C. 2302 note” and adding “10 U.S.C. 4601 note prec.” in its place.

28.106-6 [Amended]

87. Amend section 28.106-6 by removing from paragraph (d) introductory text “10 U.S.C. 2302 note” and adding “10 U.S.C. 4601 note prec.” in its place.

PART 29—TAXES

88. The authority citation for part 29 is revised to read as follows:

Authority: 40 U.S.C. 121(c); 10 U.S.C. chapter 4 and 10 U.S.C. chapter 137 legacy provisions (see 10 U.S.C. 3016); and 51 U.S.C. 20113.

PART 30—COST ACCOUNTING STANDARDS ADMINISTRATION

89. The authority citation for part 30 is revised to read as follows:

Authority: 40 U.S.C. 121(c); 10 U.S.C. chapter 4 and 10 U.S.C. chapter 137 legacy provisions (see 10 U.S.C. 3016); and 51 U.S.C. 20113.

30.201-1 [Amended]

90. Amend section 30.201-1 by removing from paragraph (b) “10 U.S.C. 2306a(a)(1)(A)(i)” and adding “10 U.S.C. 3702(a)(1)(A)” in its place.

30.603-2 [Amended]

91. Amend section 30.603-2 by removing from paragraph (e) “10 U.S.C. 2325” and adding “10 U.S.C. 3761” in its place.

PART 31—CONTRACT COST PRINCIPLES AND PROCEDURES

92. The authority citation for part 31 is revised to read as follows:

Authority: 40 U.S.C. 121(c); 10 U.S.C. chapter 4 and 10 U.S.C. chapter 137 legacy provisions (see 10 U.S.C. 3016); and 51 U.S.C. 20113.

31.205-6 [Amended]

93. Amend section 31.205-6 by—

a. Removing from paragraph (g)(6) “10 U.S.C. 2324(e)(1)(M)”, “10 U.S.C. 2324(e)(1)(N)”, and “10 U.S.C. 2324(e)(3)” and adding “10 U.S.C. 3744(a)(13)”, “10 U.S.C. 3744(a)(14)”, and “10 U.S.C. 3744(b)” in their places; respectively;

b. Removing from paragraph (p)(2)(ii) “10 U.S.C. 2324(e)(1)(P)” and adding “10 U.S.C. 3744(a)(16)” in its place;

c. Removing from paragraph (p)(3)(ii) “10 U.S.C. 2324(e)(1)(P)” and “10 U.S.C. 2324” and adding “10 U.S.C. 3744(a)(16)” and “10 U.S.C. 3744” in their places, respectively; and

d. Removing from paragraph (p)(4)(ii) “10 U.S.C. 2324(e)(1)(P)” and adding “10 U.S.C. 3744(a)(16)” in its place.

31.205-18 [Amended]

94. Amend section 31.205-18 by removing from paragraph (e)(1)(iii) “10 U.S.C. 2371” and adding “10 U.S.C. 4021” in its place.

31.205-47 [Amended]

95. Amend section 31.205-47 by—

a. Removing from paragraph (b) introductory text “10 U.S.C. 2324(k)” and “10 U.S.C. 2409” and adding “10 U.S.C. 3750” and “10 U.S.C. 4701” in their places; respectively;

b. Removing from paragraphs (b)(2) and (c)(2)(ii) “10 U.S.C. 2409” and adding “10 U.S.C. 4701” in their places, respectively; and

c. Removing from paragraph (f)(9) “10 U.S.C. 2324(e)(1)(Q)” and adding “10 U.S.C. 3744(a)(17)” in its place.

31.603 [Amended]

96. Amend section 31.603 by—

a. Removing from paragraph (b) introductory text “10 U.S.C. 2324” and adding “10 U.S.C. 3744” in its place; and

b. Removing from paragraph (b)(15) “10 U.S.C. 2409” and adding “10 U.S.C. 4701” in its place.

31.703 [Amended]

97. Amend section 31.703 by removing from paragraph (b) “10 U.S.C. 2324(e)” and adding “10 U.S.C. 3744” in its place.

PART 32—CONTRACT FINANCING

98. The authority citation for part 32 is revised to read as follows:

Authority: 40 U.S.C. 121(c); 10 U.S.C. chapter 4 and 10 U.S.C. chapter 137 legacy provisions (see 10 U.S.C. 3016); and 51 U.S.C. 20113.

32.006-1 [Amended]

99. Amend section 32.006-1 by—

a. Removing from paragraph (a) “10 U.S.C. 2307(i)(8)” and adding “10 U.S.C. 3806(j)” in its place; and

b. Removing from paragraph (b) “10 U.S.C. 2307(i)(2)” and adding “10 U.S.C. 3806(c)” in its place.

32.006-2 [Amended]

100. Amend section 32.006-2, in the definition of “Remedy coordination official”, by removing “10 U.S.C. 2307(i)(10)” and adding “10 U.S.C. 3806(a)” in its place.

32.006-5 [Amended]

101. Amend section 32.006-5 by removing from paragraph (a) and paragraph (b) introductory text “10 U.S.C. 2307(i)(7)” and adding “10 U.S.C. 3806(h)” in their places; respectively.

32.101 [Amended]

102. Amend section 32.101 by removing “10 U.S.C. 2307” and adding “10 U.S.C. chapter 277” in its place.

32.102 [Amended]

103. Amend section 32.102 by removing from paragraph (d) “10 U.S.C. 2307” and adding “10 U.S.C. chapter 277” in its place.

32.112-1 [Amended]

104. Amend section 32.112-1 by removing from paragraph (a) introductory text “10 U.S.C. 2302 note” and adding “10 U.S.C. 4601 note prec.” in its place.

32.112-2 [Amended]

105. Amend section 32.112-2 by removing from paragraph (a) introductory text “10 U.S.C. 2302 note” and adding “10 U.S.C. 4601 note prec.” in its place.

32.201 [Amended]

106. Amend section 32.201 by removing “10 U.S.C. 2307(f)” and adding “10 U.S.C. 3805” in its place.

32.202-4 [Amended]

107. Amend section 32.202-4 by removing from paragraph (a)(1) “10 U.S.C. 2307(f)” and adding “10 U.S.C. 3805” in its place.

32.401 [Amended]

108. Amend section 32.401 by removing from paragraph (b) “10 U.S.C. 2307” and adding “10 U.S.C. chapter 277” in its place.

32.410 [Amended]

109. Amend section 32.410 by removing from paragraph (c) of the example “Findings, Determinations, and Authorization for Advanced Payments” “10 U.S.C. 2307” and adding “10 U.S.C. chapter 277” in its place.

32.501-1 [Amended]

110. Amend section 32.501-1 by removing from paragraph (d) “10 U.S.C. 2307(e)(2)” and adding “10 U.S.C. 3804(b)” in its place.

32.703-3 [Amended]

111. Amend section 32.703-3 by removing from paragraph (b) “10 U.S.C. 2410a” and adding “10 U.S.C. 3133” in its place.

PART 33—PROTESTS, DISPUTES, AND APPEALS

112. The authority citation for part 33 is revised to read as follows:

Authority: 40 U.S.C. 121(c); 10 U.S.C. chapter 4 and 10 U.S.C. chapter 137 legacy provisions (see 10 U.S.C. 3016); and 51 U.S.C. 20113.

PART 34—MAJOR SYSTEM ACQUISITION

113. The authority citation for part 34 is revised to read as follows:

Authority: 40 U.S.C. 121(c); 10 U.S.C. chapter 4 and 10 U.S.C. chapter 137 legacy provisions (see 10 U.S.C. 3016); and 51 U.S.C. 20113.

PART 35—RESEARCH AND DEVELOPMENT CONTRACTING

114. The authority citation for part 35 is revised to read as follows:

Authority: 40 U.S.C. 121(c); 10 U.S.C. chapter 4 and 10 U.S.C. chapter 137 legacy provisions (see 10 U.S.C. 3016); and 51 U.S.C. 20113.

115. Revise section 35.017-7 to read as follows.

35.017-7 Limitation on the creation of new FFRDC's.

Pursuant to 10 U.S.C. 4126, the Secretary of Defense, the Secretary of the Army, the Secretary of the Navy, the Secretary of the Air Force, the Secretary of Homeland Security, and the Administrator of the National Aeronautics and Space Administration may not obligate or expend amounts appropriated to the Department of Defense for purposes of operating an FFRDC that was not in existence before June 2, 1986, until—

(a) The head of the agency submits to Congress a report with respect to such center that describes the purpose, mission, and general scope of effort of the center; and

(b) A period of 60 days, beginning on the date such report is received by Congress, has elapsed.

PART 36—CONSTRUCTION AND ARCHITECT-ENGINEER CONTRACTS

116. The authority citation for part 36 is revised to read as follows:

Authority: 40 U.S.C. 121(c); 10 U.S.C. chapter 4 and 10 U.S.C. chapter 137 legacy provisions (see 10 U.S.C. 3016); and 51 U.S.C. 20113.

36.104 [Amended]

117. Amend section 36.104 by removing from paragraph (a) “10 U.S.C. 2305a” and adding “10 U.S.C. 3241” in its place.

36.300 [Amended]

118. Amend section 36.300 by removing “10 U.S.C. 2305a” and adding “10 U.S.C. 3241” in its place.

PART 37—SERVICE CONTRACTING

119. The authority citation for part 37 is revised to read as follows:

Authority: 40 U.S.C. 121(c); 10 U.S.C. chapter 4 and 10 U.S.C. chapter 137 legacy provisions (see 10 U.S.C. 3016); and 51 U.S.C. 20113.

37.106 [Amended]

120. Amend section 37.106 by removing from paragraph (b) “10 U.S.C. 2410a” and adding “10 U.S.C. 3133” in its place.

37.113-1 [Amended]

121. Amend section 37.113-1 by removing from paragraph (c)(1) “10 U.S.C. 2324(e)(2)” and adding “10 U.S.C. 3744(d)” in its place.

37.115-1 [Amended]

122. Amend section 37.115-1 by removing “10 U.S.C. 2331” and adding “10 U.S.C. 4507” in its place.

37.401 [Amended]

123. Amend section 37.401 by removing from the introductory text “10 U.S.C. 2304” and adding “10 U.S.C. chapter 221” in its place.

PART 38—FEDERAL SUPPLY SCHEDULES CONTRACTING

124. The authority citation for part 38 is revised to read as follows:

Authority: 40 U.S.C. 121(c); 10 U.S.C. chapter 4 and 10 U.S.C. chapter 137 legacy provisions (see 10 U.S.C. 3016); and 51 U.S.C. 20113.

PART 39—ACQUISITION OF INFORMATION TECHNOLOGY

125. The authority citation for part 39 is revised to read as follows:

Authority: 40 U.S.C. 121(c); 10 U.S.C. chapter 4 and 10 U.S.C. chapter 137 legacy provisions (see 10 U.S.C. 3016); and 51 U.S.C. 20113.

PART 41—ACQUISITION OF UTILITY SERVICES

126. The authority citation for part 41 is revised to read as follows:

Authority: 40 U.S.C. 121(c); 10 U.S.C. chapter 4 and 10 U.S.C. chapter 137 legacy provisions (see 10 U.S.C. 3016); and 51 U.S.C. 20113.

41.103 [Amended]

127. Amend section 41.103 by removing from paragraph (a)(2) “10 U.S.C. 2304” and adding “10 U.S.C. 3201(a)” in its place.

41.201 [Amended]

128. Amend section 41.201 by removing from paragraph (d)(2)(ii) “10 U.S.C. 2394” and adding “10 U.S.C. 2922a” in its place.

PART 42—CONTRACT ADMINISTRATION AND AUDIT SERVICES

129. The authority citation for part 42 is revised to read as follows:

Authority: 40 U.S.C. 121(c); 10 U.S.C. chapter 4 and 10 U.S.C. chapter 137 legacy provisions (see 10 U.S.C. 3016); and 51 U.S.C. 20113.

42.703-1 [Amended]

130. Amend section 42.703-1 by—

a. Removing from paragraph (a) “10 U.S.C. 2313(d)” and adding “10 U.S.C. 3841(e)” in its place; and

b. Removing from paragraph (c) introductory text “10 U.S.C. 2324(a)” and adding “10 U.S.C. 3743(a)” in its place.

42.703-2 [Amended]

131. Amend section 42.703-2 by—

a. Removing from paragraph (a) “10 U.S.C. 2324(h)” and adding “10 U.S.C. 3747” in its place; and

b. Removing from paragraph (e) “10 U.S.C. 2324(a) through (d)” and adding “10 U.S.C. 3743” in its place.

42.705-1 [Amended]

132. Amend section 42.705-1 by removing from paragraph (b)(4) introductory text “10 U.S.C. 2324(f)” and adding “10 U.S.C. 3745” in its place.

42.709-1 [Amended]

133. Amend section 42.709-1 by removing from paragraph (a) introductory text “10 U.S.C. 2324 (a) through (d)” and adding “10 U.S.C. 3743” in its place.

PART 43—CONTRACT MODIFICATIONS

134. The authority citation for part 43 is revised to read as follows:

Authority: 40 U.S.C. 121(c); 10 U.S.C. chapter 4 and 10 U.S.C. chapter 137 legacy provisions (see 10 U.S.C. 3016); and 51 U.S.C. 20113.

PART 44—SUBCONTRACTING POLICIES AND PROCEDURES

135. The authority citation for part 44 is revised to read as follows:

Authority: 40 U.S.C. 121(c); 10 U.S.C. chapter 4 and 10 U.S.C. chapter 137 legacy provisions (see 10 U.S.C. 3016); and 51 U.S.C. 20113.

44.201-2 [Amended]

136. Amend section 44.201-2 by removing from paragraph (a) “10 U.S.C. 2306” and adding “10 U.S.C. 3322(c)” in its place.

PART 45—GOVERNMENT PROPERTY

137. The authority citation for part 45 is revised to read as follows:

Authority: 40 U.S.C. 121(c); 10 U.S.C. chapter 4 and 10 U.S.C. chapter 137 legacy provisions (see 10 U.S.C. 3016); and 51 U.S.C. 20113.

PART 46—QUALITY ASSURANCE

138. The authority citation for part 46 is revised to read as follows:

Authority: 40 U.S.C. 121(c); 10 U.S.C. chapter 4 and 10 U.S.C. chapter 137 legacy provisions (see 10 U.S.C. 3016); and 51 U.S.C. 20113.

PART 47—TRANSPORTATION

139. The authority citation for part 47 is revised to read as follows:

Authority: 40 U.S.C. 121(c); 10 U.S.C. chapter 4 and 10 U.S.C. chapter 137 legacy provisions (see 10 U.S.C. 3016); and 51 U.S.C. 20113.

47.502 [Amended]

140. Amend section 47.502 by removing paragraph (b)(1) and redesignating (b)(2) and (3) as (b)(1) and (2), respectively.

PART 48—VALUE ENGINEERING

141. The authority citation for part 48 is revised to read as follows:

Authority: 40 U.S.C. 121(c); 10 U.S.C. chapter 4 and 10 U.S.C. chapter 137 legacy provisions (see 10 U.S.C. 3016); and 51 U.S.C. 20113.

48.102 [Amended]

142. Amend section 48.102 by removing from paragraph (e) “10 U.S.C. 2306(d)” and adding “10 U.S.C. 3322(b)” in its place.

PART 49—TERMINATION OF CONTRACTS

143. The authority citation for part 49 is revised to read as follows:

Authority: 40 U.S.C. 121(c); 10 U.S.C. chapter 4 and 10 U.S.C. chapter 137 legacy provisions (see 10 U.S.C. 3016); and 51 U.S.C. 20113.

PART 50—EXTRAORDINARY CONTRACTUAL ACTIONS AND THE SAFETY ACT

144. The authority citation for part 50 is revised to read as follows:

Authority: 40 U.S.C. 121(c); 10 U.S.C. chapter 4 and 10 U.S.C. chapter 137 legacy provisions (see 10 U.S.C. 3016); and 51 U.S.C. 20113.

PART 51—USE OF GOVERNMENT SOURCES BY CONTRACTORS

145. The authority citation for part 51 is revised to read as follows:

Authority: 40 U.S.C. 121(c); 10 U.S.C. chapter 4 and 10 U.S.C. chapter 137 legacy provisions (see 10 U.S.C. 3016); and 51 U.S.C. 20113.

PART 52—SOLICITATION PROVISIONS AND CONTRACT CLAUSES

146. The authority citation for part 52 is revised to read as follows:

Authority: 40 U.S.C. 121(c); 10 U.S.C. chapter 4 and 10 U.S.C. chapter 137 legacy provisions (see 10 U.S.C. 3016); and 51 U.S.C. 20113.

147. Amend section 52.207-6 by—

a. Revising the date of the provision; and

b. Removing from paragraph (a)(2)(ii) “10 U.S.C. 2302 note” and adding “10 U.S.C. 4901 note prec.” in its place.

The revision reads as follows:

52.207-6 Solicitation of Offers from Small Business Concerns and Small Business Teaming Arrangements or Joint Ventures (Multiple-Award Contracts).

* * * * *

Solicitation of Offers From Small Business Concerns and Small Business Teaming Arrangements or Joint Ventures (Multiple-Award Contracts) (Dec 2022)

* * * * *

148. Amend section 52.212-4 by—

a. Revising the date of the clause; and

b. Removing from paragraph (r) “10 U.S.C. 2409” and adding “10 U.S.C. 4701” in its place.

The revision reads as follows:

52.212-4 Contract Terms and Conditions—Commercial Products and Commercial Services.

* * * * *

Contract Terms and Conditions—Commercial Products and Commercial Services (Dec 2022)

* * * * *

149. Amend section 52.212-5 by—

a. Revising the date of the clause;

b. Removing from paragraph (b)(1) “10 U.S.C. 2402” and adding “10 U.S.C. 4655” in its place;

c. Removing from paragraph (b)(52) “10 U.S.C. 2302 Note” and adding “10 U.S.C. Subtitle A, Part V, Subpart G Note” in its place;

d. Removing from paragraph (b)(56) “10 U.S.C. 2307(f)” and adding “10 U.S.C. 3805” in its place;

e. Removing from paragraph (b)(57) “10 U.S.C. 2307(f)” and adding “10 U.S.C. 3805” in its place;

f. Removing from paragraph (e)(1)(xx) “10 U.S.C. 2302 Note” and adding “10 U.S.C. Subtitle A, Part V, Subpart G Note” in its place;

g. Revising the date of Alternate II; and

h. In Alternate II removing from paragraph (e)(1)(ii)(S) “10 U.S.C. 2302 Note” and adding “10 U.S.C. Subtitle A, Part V, Subpart G Note” in its place.

The revisions read as follows:

52.212-5 Contract Terms and Conditions Required To Implement Statutes or Executive Orders—Commercial Products and Commercial Services.

* * * * *

Contract Terms and Conditions Required To Implement Statutes or Executive Orders—Commercial Products and Commercial Services (Dec 2022)

* * * * *

Alternate II (Dec 2022)

* * * * *

150. Amend section 52.213-4 by revising the date of the clause and paragraph (a)(2)(viii) to read as follows.

52.213-4 Terms and Conditions—Simplified Acquisitions (Other Than Commercial Products and Commercial Services).

* * * * *

Terms and Conditions—Simplified Acquisitions (Other Than Commercial Products and Commercial Services) (Dec 2022)

(a) * * *

(2) * * *

(viii) 52.244-6, Subcontracts for Commercial Products and Commercial Services (Dec 2022)

* * * * *

151. Amend section 52.228-12 by—

a. Revising the date of the clause; and

b. Removing “10 U.S.C. 2302 note” and adding “10 U.S.C. 4601 note prec.” in its place.

52.228-12 Prospective Subcontractor Requests for Bonds.

* * * * *

Prospective Subcontractor Requests for Bonds (Dec 2022)

* * * * *

152. Amend section 52.232-31 by—

a. Revising the date of the provision; and

b. Removing from paragraph (c) introductory text “10 U.S.C. 2307(f)” and adding “10 U.S.C. 3805” in its place.

52.232-31 Invitation To Propose Financing Terms.

* * * * *

Invitation To Propose Financing Terms (Dec 2022)

* * * * *

153. Amend section 52.237-9 by—

a. Revising the date of the clause; and

b. Removing from paragraph (a) “10 U.S.C. 2324(e)(3)(A)” and adding “10 U.S.C. 3744(b)” in its place.

52.237-9 Waiver of Limitation on Severance Payments to Foreign Nationals.

* * * * *

Waiver of Limitation on Severance Payments to Foreign Nationals (Dec 2022)

* * * * *

154. Amend section 52.242-3 by—

a. Revising the date of the clause; and

b. Removing from paragraph (b) “10 U.S.C. 2324” and adding “10 U.S.C. 3748” in its place.

52.242-3 Penalties for Unallowable Costs.

* * * * *

Penalties for Unallowable Costs (Dec 2022)

* * * * *

155. Amend section 52.244-6 by—

a. Revising the date of the clause; and

b. Removing from paragraph (c)(1)(xviii) “10 U.S.C. 2302 Note” and adding “10 U.S.C. Subtitle A, Part V, Subpart G Note” in its place.

The revision reads as follows:

52.244-6 Subcontracts for Commercial Products and Commercial Services.

* * * * *

Subcontracts for Commercial Products and Commercial Services (Dec 2022)

* * * * *

PART 53—FORMS

156. The authority citation for part 53 is revised to read as follows:

Authority: 40 U.S.C. 121(c); 10 U.S.C. chapter 4 and 10 U.S.C. chapter 137 legacy provisions (see 10 U.S.C. 3016); and 51 U.S.C. 20113.

53.214 [Amended]

157. Amend section 53.214 by—

a. Removing from the paragraph (a) heading “(Rev. 3/2013)” and adding “(Rev. 12/2022)” in its place;

b. Removing from the paragraph (c) heading “(Rev. 9/97)” and adding “(Rev. 12/2022)” in its place; and

c. Removing from the paragraph (d) heading “(Rev. 8/2016)” and adding “(Rev. 12/2022)” in its place.

53.236-1 [Amended]

158. Amend section 53.236-1 by removing from the paragraph (d) heading “(4/85)” and adding “(Rev. 12/2022)” in its place.

[FR Doc. 2022-25958 Filed 11-30-22; 8:45 am]

BILLING CODE 6820-EP-P